DEPARTMENT OF COMMERCE

International Trade Administration

[C-580-884]

Certain Hot-Rolled Steel Flat Products From the Republic of Korea: Partial Rescission of the Countervailing Duty Administrative Review; 2017

AGENCY: Enforcement and Compliance, International Trade Administration, Department of Commerce.

DATES: Applicable June 12, 2019.

FOR FURTHER INFORMATION CONTACT: Kabir Archuletta or Hannah Falvey, AD/CVD Operations, Office V, Enforcement and Compliance, International Trade Administration, U.S. Department of Commerce, 1401 Constitution Avenue NW, Washington, DC 20230; telephone (202) 482-2593 or (202) 482-4889, respectively.

SUPPLEMENTARY INFORMATION:

Background

On October 1, 2018, the Department of Commerce (Commerce) published a notice of opportunity to request an administrative review of the countervailing duty (CVD) order on certain hot-rolled steel flat products (hot-rolled steel) from the Republic of Korea (Korea) covering the January 1, 2017, through December 31, 2017, period of review (POR).¹ On October 29, 2018, Commerce received a timely request to conduct a countervailing duty administrative review from Hyundai Steel Company (Hyundai Steel).² On October 31, 2018, Commerce received a timely request from the petitioners ³ for an administrative review of 15 companies.⁴ Based upon these requests, on December 11, 2018, in accordance with section 751(a) of the Tariff Act of 1930, as amended (the Act), Commerce published a notice of initiation of an administrative review covering the POR, with respect to the 15 companies for which a review was requested.⁵ Commerce exercised its discretion to toll all deadlines affected by the partial federal government closure from December 22, 2018, through the resumption of operations on January 29, 2019.⁶ If the new deadline falls on a non-business day, in accordance with Commerce's practice, the deadline will become the next business day. The revised deadline for a party to withdraw a request for review was April 22, 2019.⁷

¹ See Antidumping or Countervailing Duty Order, Finding, or Suspended Investigation; Opportunity to Request Administrative Review, 83 FR 49358 (October 1, 2018).

² See Hyundai Steel's Letter, “Hot-Rolled Steel Flat Products from the Republic of Korea, Case No. C-580-884: Request for Antidumping Duty Administrative Review,” dated October 29, 2018.

³ The petitioners are AK Steel Corporation; ArcelorMittal USA LLC; Nucor Corporation; SSAB Enterprises, LLC; Steel Dynamics, Inc.; and United States Steel Corporation.

⁴ See Petitioners' Letter, “Certain Hot-Rolled Steel Flat Products from the Republic of Korea: Request for Administrative Review,” dated October 31, 2018.

⁵ See Initiation of Antidumping and Countervailing Duty Administrative Reviews, 83 FR 63615 (December 11, 2018).

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁷ Id.

Withdrawal of Review Requests

On April 22, 2019, the petitioners withdrew their request for an administrative review of 14 companies: DCE Inc.; Dong Chuel America Inc.; Dong Chuel Industrial Co., Ltd.; Dongbu Incheon Steel Co., Ltd.; Dongbu Steel Co., Ltd.; Dongkuk Industries Co., Ltd.; Dongkuk Steel Mill Co., Ltd.; Hyewon Sni Corporation (H.S.I.); JFE Shoji Trade Korea Ltd.; POSCO; POSCO Coated & Color Steel Co., Ltd.; POSCO Daewoo Corporation; Soon Hong Trading Co., Ltd.; and Sung-A Steel Co., Ltd.⁸ There are no other active review requests for these companies.

⁸ See Petitioners' Letter, “Certain Hot-Rolled Flat Products from the Republic of Korea: Partial Withdrawal of Request for Administrative Review,” dated April 22, 2019.

Rescission in Part

Pursuant to 19 CFR 351.213(d)(1), Commerce will rescind an administrative review, in whole or in part, if a petitioner who requested the review withdraws the request within 90 days of the date of publication of notice of initiation of the requested review, and no other party requested a review of the company for which the petitioner requested a review. Petitioners timely withdrew their request for review of the 14 companies, as detailed above, and no other party requested a review of said companies. Accordingly, Commerce is rescinding this review of hot-rolled steel from Korea for the POR, with respect to those 14 companies, in accordance with 19 CFR 351.213(d)(1). This administrative review will continue with respect to Hyundai Steel.

Assessment

Commerce will instruct U.S. Customs and Border Protection (CBP) to assess countervailing duties on all appropriate entries. For the companies for which this review is rescinded, countervailing duties shall be assessed at rates equal to the cash deposit of estimated antidumping duties required at the time of entry, or withdrawal from warehouse, for consumption, in accordance with 19 CFR 351.212(c)(1)(i). Commerce intends to issue appropriate assessment instructions directly to CBP 15 days after publication of this notice.

Notification to Importers

This notice serves as a reminder to importers of their responsibility under 19 CFR 351.402(f)(2) to file a certificate regarding the reimbursement of countervailing duties prior to liquidation of the relevant entries during this review period. Failure to comply with this requirement could result in the presumption that reimbursement of countervailing duties occurred and the subsequent assessment of doubled countervailing duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

This notice is issued and published in accordance with section 751(a)(1) and 777(i)(1) of the Tariff Act of 1930, as amended, and 19 CFR 351.213(d)(4).

Dated: June 7, 2019.
James Maeder,
Associate Deputy Assistant Secretary for Antidumping and Countervailing Duty Operations.

[FR Doc. 2019-12392 Filed 6-11-19; 8:45 am]

BILLING CODE 3510-DS-P